FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on proposed revision of a currently approved information collection. In accordance with the Paperwork Reduction Act of 1995 (44 U.S.C. 3506(c)(2)(A)), this notice seeks comments concerning the community inspection report, which is the subject of this information collection submission. The community inspection report will be used in the implementation of the inspection procedure in the Monroe County, the City of Marathon, and the Village of Islamorada, Florida and any other community that incorporates in Monroe County on or after January 1, 1999. The inspection procedure has two major purposes: (1) To help the communities of Monroe County, City of Marathon, the Village of Islamorada, Florida, and any other communities in Monroe County that incorporate after January 1, 1999 verify that structures in their communities (those built after the effective date of the Flood Insurance Rate Map (FIRM), referred to as Post-FIRM) comply with the community's floodplain management ordinance; and (2) to ensure that property owners pay flood insurance premiums commensurate with their flood risk.

SUPPLEMENTARY INFORMATION: The community inspection report, which is the subject of this information collection submission, will be used in the implementation of the inspection procedure in the Monroe County, the City of Marathon, and the Village of Islamorada, Florida and any other community that incorporates in Monroe County on or after January 1, 1999. The inspection procedure has two major purposes: (1) To help the communities of Monroe County, City of Marathon, the Village of Islamorada, Florida, and any other communities in Monroe County that incorporate after January 1, 1999 verify that structures in their communities (those built after the effective date of the Flood Insurance Rate Map (FIRM), referred to as Post-FIRM) comply with the community's floodplain management ordinance; and (2) to ensure that property owners pay flood insurance premiums commensurate with their flood risk.

The National Flood Insurance Program (NFIP) was established by the National Flood Insurance Act of 1968 (Public law 90-448), as amended. The Flood Disaster Protection Act of 1973 (Public Law 93-234) and the National Flood Insurance Reform Act of 1994 (Public Law 103-325) made significant changes to the program. The primary purposes of the NFIP are to: (1) Better indemnify individuals for flood losses through insurance; (2) reduce future flood damages through state and community floodplain management regulations; and (3) reduce federal expenditures for disaster assistance and flood control. The NFIP makes Federally-backed flood insurance coverage available only in those communities that adopt and enforce a floodplain management ordinance to regulate new development in flood hazard areas. Over 19,000 communities participate in the NFIP.

The concept behind the program is that the communities would join the NFIP to make their citizens eligible to purchase subsidized flood insurance for existing buildings. It was recognized that insurance for many of these buildings would be prohibitively expensive if the premium were not subsidized. It was also recognized that most of these floodprone buildings were built by individuals that did not have sufficient knowledge of the hazard to make informed decisions.

In exchange for the availability of this subsidized insurance, communities would protect new construction through adoption and enforcement of community floodplain management ordinances. Owners of these new buildings (those built after the Federal Emergency Management Agency (FEMA) had identified flood hazards in the community) would pay actuarial rates for flood insurance that fully reflect the risk to the building.

Community floodplain management regulations require that residential buildings be elevated to or above the elevation of the base flood (the flood that has a 1 percent chance of occurring during any given year, also known as the 100-year flood). Non-residential buildings can either be elevated or floodproofed (made watertight) to the base flood. Without community oversight of building activities and development in the floodplain, the best efforts of some to reduce flood losses could be undermined or destroyed by the careless building of others. Community enforcement of a floodplain management ordinance is critical in protecting a building from future flood damages, in reducing taxpayer funded disaster assistance, and also in keeping flood insurance rates affordable.

The purpose of the inspection procedures is to require owners of insured buildings (policyholders) to obtain an inspection from community floodplain management officials and submit a community inspection report as a condition of renewing the Standard Flood Insurance Policy (SFIP) on the building. The community inspection report, which is the subject of this information collection submission, will materially assist in reducing the number of buildings at risk to flood losses. The inspection procedure has two major purposes: (1) To help the pilot communities for this inspection procedure, Monroe County, City of Marathon, and the Village of Islamorada, Florida, and any community that incorporates after January 1, 1999 verify that structures in their communities (those built after the effective date of the FIRM, or post-FIRM) comply with the community's floodplain management ordinance; and (2) to ensure that property owners pay flood insurance premiums commensurate with their flood risk. Post-FIRM construction is charged an actuarial rate that must fully reflect the risk of flooding. The community inspection report will be needed to effectively implement the inspection procedure. The community inspection report will be used to document whether the insured building is in compliance with the community's floodplain management ordinance. The inspection report will also assist FEMA to ensure that property owners are paying flood insurance premiums commensurate with their flood risk.

Under the NFIP Floodplain Management Regulations at 44 CFR 60.3, all new construction and substantial improvements of structures in A Zones on the community's FIRM must have any enclosed areas below the lowest floor of an elevated building designed to include openings to equalize hydrostatic flood pressure on exterior walls by allowing for the automatic entry and exit of floodwaters. In V Zones, new construction and substantial improvements must have the space below the lowest floor either free of obstruction or constructed with open wood lattice-work, insect screening, or non-supporting breakaway walls, intended to collapse under wind and water loads without causing collapse, displacement, or other structural damage to the elevated portion of the building or supporting foundation system. In both A and V Zones on the community's FIRM, the area below the lowest floor of an elevated building can only be used for parking of vehicles, building access, or storage.

In addition, owners must build the area below the lowest floor of an elevated building using flood resistant materials and must use construction methods and practices that minimize flood damages. Owners must also build with electrical, ventilation, plumbing, and air conditioning equipment and other service facilities that are designed or located so as to prevent water from entering or accumulating within the components during conditions of flooding.

FEMA conducted a Community Assistance Visit (CAV) in Monroe County, Florida, in 1982, 1987, and in 1995. The purpose of a CAV is to assess an NFIP community's floodplain management program and to provide whatever assistance the community needs to administer its floodplain management ordinance effectively when program deficiencies or violations are identified. One of the more serious problems that FEMA identified through the CAVs was the apparent widespread use of the enclosed area below the lowest floor of elevated buildings for uses other than parking of vehicles, building access, or storage. Follow-up contacts with Monroe County had indicated that it was unable to identify possible violations and remedy violations identified.

There are several factors that have limited Monroe County's ability to determine whether a building with an enclosure complies with the county's floodplain management ordinance: (1) A provision in Florida laws exempts “owner-occupied family residences” from the administrative warrant inspection procedure provided under State law for identifying building-safety issues. Under Florida State law, entry by local officials into owner-occupied single family homes without consent of the owner requires a search warrant, which is extremely difficult to obtain. (2) It is often difficult from the street to determine whether the enclosed area below an elevated building contains uses other than parking of vehicles, building access, or storage. Although the County can seek consent and approval of the owner to inspect their property, the community has had limited success in identifying violations using this method. (3) The volume of possible violations is also a contributing factor in the community's ability to address this problem. Monroe County estimated that there are several thousand buildings with illegal enclosures below the lowest floor of an elevated building. Consequently, the community has had little success in identifying possible violations so that it could then require actions to remedy the violations to the maximum extent possible.

Given these circumstances, Monroe County indicated its interest in participating in an inspection procedure. In January 1997, a Monroe County Citizen's Task Force, which was appointed by the Monroe County Board of County Commissioners to address the issue of illegal enclosures below the lowest floor of an elevated building, recommended establishment of a procedure to require an inspection and a compliance report prior to the renewal of a flood insurance policy. On June 11, 1998, the Board of County Commissioners of Monroe County, Florida, passed a resolution that requested FEMA to establish an inspection procedure for the County as a means of verifying that insured buildings in the Special Flood Hazard Area under the NFIP comply with the County's floodplain management ordinance.

The Village of Islamorada incorporated as a separate community within Monroe County in January 1998 and became a separate participating NFIP community on October 1, 1998. The Village of Islamorada encompasses four of the Florida Keys that would have been included as part of the inspection procedure in Monroe County. Because of possible illegal enclosures in the Village of Islamorada, the community indicated its interest in participating in the pilot inspection procedure in a letter dated September 24, 1998, in its application to join the NFIP.

The City of Marathon incorporated as a separate community within Monroe County on November 2, 1999 and became a separate participating NFIP community on October 16, 2000. The City of Marathon encompasses 12 miles of the Florida Keys that would have been included as part of the inspection procedure in Monroe County. Because of possible illegal enclosures in the City of Marathon, the community indicated its interest in participating in the pilot inspection procedure in a resolution titled, “A Resolution of the City Council of the City of Marathon, Florida, Providing for Approval of the City's Participation in the National Flood Insurance Program's Pilot Inspection Program and Providing for an Effective Date”, which was passed and adopted on September 13, 2000.

An interim final rule was published in the Federal Register on March 8, 2002 (67 FR 10631) that amended the NFIP regulations to clarify that areas of Monroe County that incorporate on or after January 1, 1999, and become eligible for the sale of flood insurance must participate in the inspection procedures as a condition of joining the NFIP. This requirement was specifically stated in the supplementary of the proposed rule (published in the Federal Register on May 5, 1999, 64 FR 24256) and in the final rule (published in the Federal Register on June 27, 2000, 65 FR 39726) establishing the inspection procedure. However, this requirement was not clearly stated in the Appendices (A)(4), (A)(5), and (A)(6) of 44 CFR part 61, the endorsements to the Standard Flood Insurance Policy. The interim final rule amended 44 CFR 59.30 and the appendices to make clearer that participation in the inspection procedures is a requirement for any area within Monroe County that incorporates on or after January 1, 1999. FEMA will publish notices in the Federal Register when communities in Monroe County incorporate, agree to implement the pilot inspection procedure, and become eligible for the sale of flood insurance.

Due to the fact that there has been widespread use of the enclosed area below the lowest floor of elevated buildings for uses other than parking of vehicles, building access or storage, the community inspection report will materially assist the communities in identifying and remedying the violation, thereby reduce the number of buildings exposed to significant flood losses. Furthermore, the collection of information will help FEMA ensure that the policyholders of buildings with illegal enclosures are paying premiums commensurate with their flood risk.

The inspection procedure will be conducted in the communities of Monroe County, City of Marathon, the Village of Islamorada, and any other community in Monroe County that incorporates after January 1, 1999. FEMA would make any decision to implement the inspection procedure in NFIP participating communities outside Monroe County only after completing the pilot inspection procedure within the selected communities and after an evaluation to determine how effective the procedure is in achieving NFIP building compliance. Implementation of the inspection procedure beyond Monroe County would require separate rulemaking and preparation of supporting materials for Paperwork Reduction Act submissions.

Collection of Information

Title: Inspection of Insured Structures by Communities.

Type of Information Collection: Revision of a currently approved collection.

OMB Number: 3067-0275.

Abstract: The purpose of the inspection procedure and need for the community inspection report is to:

(1) To help the communities of Monroe County, City of Marathon, the Village of Islamorada, Florida, and any other community in Monroe County that incorporates after January 1, 1999 verify and document that post-FIRM structures in their communities comply with the community's floodplain management ordinance; and

(2) To ensure that property owners pay flood insurance premiums commensurate with their flood risk due to the increased exposure to flood damages.

The final rule (published in the Federal Register on June 27, 2000, 65 FR 39726) and the interim final rule (published in the Federal Register on March 8, 2002, 67 FR 10631) established an inspection procedure in Monroe County, City of Marathon, the Village of Islamorada, Florida and any other community in Monroe County that incorporates after January 1, 1999 that would be built around the flood insurance policy renewal process. The requirement that a building be inspected by the community, as a condition of renewing the flood insurance policy on the building, would only apply to NFIP insured buildings in Special Flood Hazard Areas that are identified as possible violations by the community in which the property is located. The Special Flood Hazard Areas (SFHA) is an area that is based on a flood that would have a 1-percent chance of being equaled or exceeded in any given year, referred to as the 100-year flood.

Policyholders that have a flood insurance policy with a renewal effective date on and after the implementation date of the pilot inspection procedure would receive, along with their policy renewal notice, an endorsement established in Appendices (A)(4), (A)(5), and (A)(6) of 44 CFR part 61. The endorsement would provide that an inspection by the community may be required before a subsequent renewal of the flood insurance policy. Policies issued as new policies after the effective date for implementing the pilot inspection procedure would also contain the endorsement established in Appendices (A)(4), (A)(5), and (A)(6). The endorsement amended all flood insurance policies (pre-FIRM and post-FIRM) on buildings in Monroe County, City of Marathon, and the Village of Islamorada, Florida (there are approximately 28,771 flood insurance policies in these communities at the time of this submission). Pre-FIRM insured buildings are included for the endorsement since there may be some policies within this category that should be rated post-FIRM because they were misrated or substantially improved after the effective date of the community's FIRM. A notice describing the purpose of the inspection procedure would accompany the new endorsement to the Standard Flood Insurance Policy regarding the inspection procedure.

Monroe County, City of Marathon, and the Village of Islamorada would identify possible violations and forward the list to FEMA. There are an estimated 2,000-4,000 number of insured buildings within the three communities that may be subject to an inspection based on the identification as possible violations. This estimate was reported to FEMA from the communities. Based on FEMA's review of floodplain development in these communities, FEMA is comfortable with this estimate.

Monroe County, City of Marathon, and the Village of Islamorada would identify possible violations through a review of the pre-FIRM and post-FIRM flood insurance policies provided by FEMA and from a visual street inspection of the building, from tax records, and through a review of other documents on file in the community pertaining to the property and through other community procedures. For buildings identified by Monroe County, City of Marathon, and the Village of Islamorada as possible violations, the insurer of the flood insurance policy would send a notice to policyholders approximately 6 months before the policy expiration date. This notice would state that the policyholder must obtain an inspection from the community and submit the results of the property inspection as part of the renewal of the flood insurance policy by the end of the renewal grade period (30 days after date of the policy expiration). The insurer would send a reminder notice to the policyholder with the Renewal Notice about 45 to 60 days before the policy expires.

The policyholder would be responsible for contacting the community to arrange for an inspection. The community would inspect the building to determine whether it complies with the community's floodplain management ordinance and document its findings in an inspection report. The community would provide two copies of the inspection report to the policyholder.

If the policyholder obtained a timely inspection and sent the community's inspection report and the renewal premium payment to the insurer by the end of the renewal grace period, the insurer would renew the flood insurance policy whether or not the building has been identified as a violation by the community. The insurer would review the insurance policy for rerating upon review of the community inspection report. If the building was not properly rated to reflect the building's risk of flooding, the policy would be rerated to reflect that risk. If the community's inspection found a violation, the community would undertake an enforcement action in accordance with its floodplain management ordinance.

If the policyholder did not obtain an inspection and submit an inspection report with the renewal premium payment by the end of the renewal grace period (30 days after date of expiration), the flood insurance policy would not be renewed. The insurer would send a notice to the insured that the flood insurance policy expired and cannot be re-issued without the community inspection report.

The communities will not be using a FEMA designed form in documenting the inspection of an insured structure. FEMA consulted with local officials from the communities participating in the inspection procedure on the type of existing building inspection reports they use to implement their floodplain management ordinance and we determined that the current community inspection documents could be used for purposes of implementing the inspection procedure and for purposes of determining whether the building's flood insurance policy needs to be rerated by insurer.

The community inspection report is critical to the effective implementation of the inspection procedure. Without the inspection procedure, the Village of Islamorada, City of Marathon, and Monroe County would continue to have limited ability to inspect properties for illegal enclosures that violate their floodplain management ordinance and as a result, both communities would be unable to undertake appropriate actions to remedy the violations. There are several potential serious consequences if these structures continue to be in violation of the community's floodplain management ordinance.

Allowing uses other than parking of vehicles, building access, or storage in the enclosed area below the Base Flood Elevation (elevation of the 100-year flood) significantly increases the flood damage potential to the area below the lowest floor of the elevated building. Improperly constructed enclosure walls and utilities can tear away and damage the upper portions of the elevated building exposing the building to greater damage. Improperly constructed enclosures can also result in flood forces being transferred to the elevated portion of the building with the potential for catastrophic damage. If a flood disaster occurs, the impact will go beyond the building itself. If the ground level enclosure is finished with living spaces, there is an increased risk to lives. Residents who live in these ground level enclosures may not be fully aware of the flood risk.

Furthermore, there is limited coverage in this area for elevated post-FIRM buildings, as provided for in the Standard Flood Insurance Policy (SFIP) under Article 6—Property Not Covered. This provision of the SFIP, effective since October 1, 1983, limits coverage for enclosures, including personal property contained therein. FEMA does not cover such items as finished enclosure walls, floors, ceilings, and personal property such as rugs, carpets, and furniture. In 1983, FEMA limited the coverage for enclosed areas below elevated buildings due to the financial losses experienced in the NFIP when FEMA provided full coverage in these areas. Consequently, property owners and residents that may live in these lower enclosed areas may have significant uninsured losses in the event of a flood for finished items and contents below the lowest floor.

However, in spite of the limited coverage afforded for these enclosed areas, they do affect the rating of the policy. Because of the increase in flood damage potential to the building resulting from flood forces being transferred to the elevated portion of the building, the damage potential must be recognized in the rates by adding rate loadings based on the size of the enclosure. In addition, the rates must also reflect whether the enclosure contains essential building elements which are covered, namely, sump pumps, well water tanks and pumps, electrical junction and circuit breaker boxes, elevators, natural gas tanks, pumps or tanks related to solar energy, cisterns, stairways and staircases attached to the building, and foundation elements that support the building. The collection of information from the policyholder in the inspection procedure will ensure that the policyholders of buildings with enclosures are paying premiums commensurate with their flood risk.

Along with significant flood damages to the building and the potential for loss of life, the community, the State, and the Federal Government will be faced with costly outlays for flood fighting and rescue operations, response, and recovery as well as taxpayer funded disaster assistance.

Under the inspection procedure, the policyholder will be required to obtain an inspection in order to renew the policy. This will be a one-time collection of information during the period of time for which the inspection procedure is to be implemented. Since the primary purpose of the inspection is to provide communities with a mechanism to ensure compliance with the floodplain management ordinance and for FEMA to verify flood insurance rates, less frequent collection of the information through the inspection report is not possible.

Affected Public: Individuals or Households and Business or Other For-Profit.

Estimated Total Annual Burden Hours: We expect a total of 2,000 to 4,000 respondents (policyholders) to obtain an inspection from the community in which the property is located. This is the total estimated number of insured buildings that are possible violations of the community's floodplain management ordinance in Monroe County, City of Marathon, and the Village of Islamorada. The burden hours are calculated based on the maximum number of estimated respondents (4,000 insured buildings). Monroe County, City of Marathon, and the Village of Islamorada will identify which insured buildings are possible violations of the community's floodplain management ordinance. It is anticipated that the inspection procedure will be implemented over a multi-year period in each community in order to inspect several hundred insured buildings identified as possible violations each year.

It is estimated that Monroe County will inspect 500-700 insured buildings per year, the City of Marathon will inspection 200-400 insured buildings per year, and the Village of Islamorada will inspect 200-400 insured buildings per year.

The policyholders of insured buildings identified as possible violations by the community will receive a notice from their insurer approximately 6 months before the policy expiration date. This notice will state that the policyholder must obtain an inspection from the community and submit the results of the inspection as part of the renewal of the flood insurance policy by the end of the renewal grace period (30 days after date of the policy expiration). In addition, for each of the 2,000-4,000 insured buildings identified as a possible violation of the community's floodplain management ordinance, the following will apply:

• The policyholder will receive a reminder notice from the insurer regarding the inspection with the Renewal Notice about 45 to 60 days before the policy expires.

• The policyholder is responsible for contacting the community to arrange for an inspection by a local official in the community in which the property is located.

• The policyholder will receive two copies of the inspection report from the community and submit one copy of the inspection report as part of the policy renewal process, which includes the payment of the premium.

• If the policyholder did not obtain an inspection and submit an inspection report with the renewal payment by the end of the renewal grade period (30 days after date of expiration), the flood insurance policy would not be renewed. The insurer would send a notice at expiration or shortly thereafter to the policyholder that the flood insurance policy expired and cannot be re-issued without the community inspection report.

The flood insurance renewal notice and flood insurance application have previously been approved by OMB (OMB 3067-0022).

Number of respondents/type of response | Frequency of response | Burden hours | Total burden hours
4,000 policyholders to receive & read a notice that an inspection is required in order for the flood insurance policy to be renewed. These 4,000 policyholders will also receive a reminder notice about 45-60 days before the policy expires | 1 | 15 minutes (total for both notices) | 1,000
4,000 policyholders contact respective community to arrange for an inspection of the property. Local official inspects the property with the policyholder or his/her designee. (Note: in any given year we expect several hundred policyholders to receive the notice and contact their community.) Compliant buildings should take less time to inspect compared to an insured building that is non-compliant | 1 | 1-2.5 hours** | 10,000
4,000 policyholders submit a copy of the inspection report with the renewal premium payment | 1 | 8 minutes | 533
800 estimated no. of respondents that did not obtain an inspection. These respondents will be sent a notice at time of policy expiration that their flood insurance policy expired. (FEMA estimates that less than 20% of the 4,000 respondents will not obtain an inspection and as a result their flood insurance policy will not be renewed.) | 1 | 8 minutes | 107
Total number of Burden Hours to implement the inspection procedure over a multi-year period* | 11,640
Annual (one-time) total burden hours for each policyholder is approximately | 3
Total annual burden for approximately 500-700 inspections per year in Monroe County | 2,100
Total annual burden for approximately 200-400 inspections per year in the Village of Islamorada | 1,200
Total annual burden for approximately 200-400 inspections per year in the City of Marathon | 1,200 hours
* It is estimated that 2,000-4,000 buildings will need to be inspected over a multi-year period. On an annual basis, it is estimated that 900-1,500 buildings will be inspected each year when you combine the estimated annual inspections to be conducted by each community. The total number of inspections would not change with the incorporation of any community within Monroe County that joins the National Flood Insurance Program and agrees to participate in the inspection procedure after January 1, 1999. The estimated total number of inspections (2,000-4,000) remains the same. The addition of any other community only offsets the total number, burden hours, and costs in Monroe County.
** FEMA has estimated that the amount of time to contact the community to arrange for the inspection and for the policyholder or his/her designee to be available to let the community official into the building to conduct the inspection will range from 1 hour to 2.5 hours.

Estimated Cost: Communities generally charge a fee for permits and inspections as part of their administration of their zoning ordinance, building code, and floodplain management ordinance. It is estimated that it will cost the policyholder on average between $35 to $50.00 for each inspection. There may be expenses related to telephone calls and arranging for someone to be available at the property so that local officials can inspect the building. These expenses are estimated to be on average $15.00 per respondent. Therefore, policyholders who are required to obtain an inspection as a condition of renewing the flood insurance policy and who obtain that inspection, it is estimated to cost on average $65.00 per policyholder. For approximately 900 to 1,500 inspections per year, the total annual cost burden to respondents is estimated to be between $58,500 and $97,500.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Program Services and Systems Branch, Facilities Management and Services Division, Administration and Resource Planning Directorate, Federal Emergency Management Agency, 500 C Street, SW., Room 316, Washington, DC 20472.

FOR FURTHER INFORMATION CONTACT: Contact Lois C. Forster, Program Specialist, Federal Insurance and Mitigation Administration, (202) 646-2720 for additional information. You may contact Ms. Anderson for copies of the proposed collection of information at telephone number (202) 646-2625 or facsimile number (202) 646-3347 or e-mail muriel.Anderson@fema.gov.

Dated: July 29, 2002.
Reginald Trujillo,
Branch Chief, Program Services and Systems Branch, Facilities Management and Services Division, Administration and Resource Planning Directorate.

[FR Doc. 02-19758 Filed 8-5-02; 8:45 am]

BILLING CODE 6718-01-P